ENVIRONMENTAL PROTECTION AGENCY

[FRL-8711-2]

Meeting of the Total Coliform Rule Distribution System Advisory Committee—Notice of Public Meeting

AGENCY: Environmental Protection Agency (EPA).

ACTION: Notice.

SUMMARY: Under Section 10(a)(2) of the Federal Advisory Committee Act, the United States Environmental Protection Agency (EPA) is giving notice of a meeting of the Total Coliform Rule Distribution System Advisory Committee (TCRDSAC). The purpose of this meeting is to discuss the Total Coliform Rule (TCR) revision and information about distribution systems issues that may impact water quality.

The TCRDSAC advises and makes recommendations to the Agency on revisions to the TCR, and on what information should be collected, research conducted, and/or risk management strategies evaluated to better inform distribution system contaminant occurrence and associated public health risks.

During this meeting the TCRDSAC will discuss the Committee's revisions to the draft Agreement in Principle (AIP), which includes recommended revisions to the TCR and recommendations for research and information collection to better understand and address possible public health impacts from potential degradation of drinking water quality in the distribution system.

DATES: The public meeting will be held on Thursday, September 18, 2008 (9 a.m. to 5 p.m., Eastern Time (ET)). The Agency expects to conclude discussions on the AIP on September 18; however, if discussions are not completed on September 18, the TCRDSAC will also meet on Friday, September 19, beginning at 9 a.m. (ET) to finalize discussions. Attendees should register for the meeting by calling Kate Zimmer at (202) 965-6387 or by e-mail to kzimmer@resolv.org no later than September 12, 2008.

ADDRESSES: The meeting will be held at The Churchill Hotel, 1914 Connecticut Ave., NW., Washington, DC 20009.

FOR FURTHER INFORMATION CONTACT: For general information, contact Kate Zimmer of RESOLVE at (202) 965-6387. For technical inquiries, contact Sean Conley (conley.sean@epa.gov, (202) 564-1781), Standards and Risk Management Division, Office of Ground Water and Drinking Water (MC 4607M), Environmental Protection Agency, 1200 Pennsylvania Ave., NW., Washington, DC 20460; fax number: (202) 564-3767.

SUPPLEMENTARY INFORMATION: The meeting is open to the public. The Committee encourages the public's input and will take public comment starting at 11:30 a.m. on September 18, 2008, for this purpose. It is preferred that only one person present the statement on behalf of a group or organization. To ensure adequate time for public involvement, individuals interested in presenting an oral statement may notify Crystal Rodgers-Jenkins, the Designated Federal Officer, by telephone at (202) 564-5275, no later than September 12, 2008. Any person who wishes to file a written statement can do so before or after a Committee meeting. Written statements received by September 12, 2008, will be distributed to all members before any final discussion or vote is completed. Any statements received on or after September 13, 2008, will become part of the permanent meeting file and will be forwarded to the members for their information.

Special Accommodations

For information on access or accommodations for individuals with disabilities, please contact Crystal Rodgers-Jenkins at (202) 564-5275 or by e-mail at rodgers-jenkins.crystal@ epa.gov. Please allow at least 10 days prior to the meeting to give EPA time to process your request.

Dated: August 28, 2008.
Cynthia C. Dougherty,
Director, Office of Ground Water and Drinking Water.

[FR Doc. E8-20394 Filed 9-2-08; 8:45 am]

BILLING CODE 6560-50-P